GOVERNMENT ACCOUNTABILITY OFFICE

Board of Governors of the Patient-Centered Outcomes Research Institute (PCOR)

AGENCY: Government Accountability Office (GAO).

ACTION: Correction on address for Letters of Nomination.

SUMMARY: The Patient Protection and Affordable Care Act gave the Comptroller General of the United States responsibility for appointing 19 members to the Board of Governors of the Patient-Centered Outcomes Research Institute. hi addition, the Directors of the Agency for Healthcare Research and Quality and the National Institutes of Health, or their designees, are members of the Board. The Comptroller General is required to make appointments not later than 6 months after the date of enactment of the Act. Board members must meet the qualifications listed in Section 6301 of the Act. For these appointments, I am announcing the following: Letters of nomination and resumes should be submitted by June 30th 2010 to ensure adequate opportunity for review and consideration of nominees prior to appointment. Letters of nomination and resumes can be sent to either the e-mail or mailing address listed below.

ADDRESSES: Nominations can be submitted by either of the following:

• E-mail: PCORI@gao.gov.

• Mail: GAO Health Care, Attention: PCOR Institute Board of Governors, 441 G Street, NW., Washington, DC 20548.

FOR FURTHER INFORMATION CONTACT: GAO: Office of Public Affairs, (202) 512-4800. [Sec. 6301, Pub. L. 111-148]

Gene L. Dodaro,
Comptroller General of the United States.

[FR Doc. 2010-11404 Filed 5-13-10; 8:45 am]

BILLING CODE 1610-02-M